DEPARTMENT OF COMMERCE

International Trade Administration

[A-570-904]

Certain Activated Carbon From the People's Republic of China: Extension of Time Limit for Final Results of the Third Antidumping Duty Administrative Review

AGENCY: Import Administration, International Trade Administration, Department of Commerce.

DATES: Effective Date: July 21, 2011.

FOR FURTHER INFORMATION CONTACT: Bob Palmer or Kathleen Marksberry, AD/CVD Operations, Office 9, Import Administration, International Trade Administration, Department of Commerce, 14th Street and Constitution Avenue, NW., Washington, DC 20230; telephone: (202) 482-9068 or (202) 482-7906, respectively.

Background

On May 28, 2010, Department of Commerce (“Department”) published the notice of the initiation of the antidumping duty administrative review on certain activated carbon from the People's Republic of China (“PRC”), covering the period April 1, 2009, through March 31, 2010. See Initiation of Antidumping and Countervailing Duty Administrative Reviews, 75 FR 29976 (May 28, 2010) (“Initiation Notice”).

On October 6, 2010, the Department published a notice extending the time period for issuing the preliminary results by 120 days to April 30, 2011. See Certain Activated Carbon From the People's Republic of China: Extension of Time Limits for Preliminary Results of the Third Antidumping Duty Administrative Review, 75 FR 61697 (October 6, 2010). On April 29, 2011, the Department published the preliminary results of this review. See Preliminary Results of the Third Antidumping Duty Administrative Review, and Preliminary Rescission in Part: Certain Activated Carbon from the People's Republic of China, 75 FR 23978 (April 29, 2011) (“Preliminary Results”). The final results are currently due on August 27, 2011.

Extension of Time Limits for Final Results

Section 751(a)(3)(A) of the Tariff Act of 1930, as amended (“Act”), requires the Department to issue the final results in an administrative review of an antidumping duty order 120 days after the date on which the preliminary results are published. The Department may, however, extend the deadline for completion of the final results of an administrative review to 180 days if it determines it is not practicable to complete the review within the foregoing time period. See section 751(a)(3)(A) of the Act and 19 CFR 351.213(h)(2).

The Department requires additional time to complete this review because the Department must fully analyze and consider significant issues raised in the parties' case and rebuttal briefs. Additionally, the Department released information related to the wage rate calculation after publication of the Preliminary Results and has received additional comments which it must analyze and consider in addition to the case and rebuttal briefs. Thus, it is not practicable to complete this review within the time specified under the Act. Therefore, we are fully extending the time for the completion of the final results of this review by 60 days to October 26, 2011.

This notice is published in accordance with section 777(i)(1) of the Act.

Dated: July 15, 2011.
Christian Marsh,
Deputy Assistant Secretary for Antidumping and Countervailing Duty Operations.

[FR Doc. 2011-18455 Filed 7-20-11; 8:45 am]

BILLING CODE 3510-DS-P